DEPARTMENT OF THE INTERIOR

Bureau of Ocean Energy Management

[Docket No. BOEM-2014-0077; MMAA104000]

Environmental Assessment for Virginia Offshore Wind Technology Advancement Project on the Atlantic Outer Continental Shelf Offshore Virginia

AGENCY: Bureau of Ocean Energy Management (BOEM), Interior.

ACTION: Notice of Availability of an Environmental Assessment.

SUMMARY: The Bureau of Ocean Energy Management (BOEM) has prepared an Environmental Assessment (EA) to consider the reasonably foreseeable environmental consequences associated with the approval of wind energy-related research activities offshore Virginia as proposed by the Virginia Department of Mines, Mineral, and Energy (DMME). The purpose of this notice is to inform the public of the availability of the EA and to solicit public comment on the EA for a 30-day public comment period.

DATES: BOEM will conduct a public information meeting to explain the proposed activities analyzed in the EA and provide additional opportunity for public comment on the EA. The meeting will be held on Wednesday, December 17, 2014, from 5:00 to 8:00 p.m., at the Virginia Aquarium and Marine Science Center, 717 General Booth Boulevard, Virginia Beach, Virginia 23451.

FOR FURTHER INFORMATION CONTACT: Michelle Morin, BOEM Office of Renewable Energy Programs, 381 Elden Street, HM 1328, Herndon, Virginia 20170-4817, (703) 787-1340 or michelle.morin@boem.gov.

SUPPLEMENTARY INFORMATION: On December 6, 2013, BOEM issued a Determination of No Competitive Interest (78 FR 73882) for a research lease requested by the Virginia Department of Mines, Minerals and Energy (DMME). DMME subsequently submitted a research activities plan (RAP) that describes the proposed construction, operation, maintenance, and eventual decommissioning of Virginia Offshore Wind Technology Advancement Project (VOWTAP). The RAP included the results of site characterization studies, such as geophysical, geotechnical, archaeological, and biological surveys. DMME's proposed project would consist of two 6-MW wind turbine generators (WTGs), a 34.5-kilovolt (kV) alternating current (AC) submarine cable interconnecting the WTGs (inter-array cable), a 34.5 kV AC submarine transmission cable (export cable), and a 34.5 kV underground cable (onshore interconnection cable) that would connect the proposed project with existing infrastructure located in the City of Virginia Beach. The U.S. Department of Energy (DOE) is proposing to provide funding in support of VOWTAP and is participating as a cooperating agency in the National Environmental Policy Act (NEPA) process.

On March 14, 2014, BOEM published a Notice of Intent (NOI) to prepare an EA in the Federal Register (79 FR 14534). Comments received in response to the NOI can be viewed at: http://www.regulations.gov by searching for Docket ID BOEM-2014-0009. A public scoping meeting was held April 3, 2014 in Virginia Beach, Virginia. BOEM used the input from the scoping process to solicit information regarding important environmental issues and alternatives that should be considered in the EA. Additionally, BOEM used the scoping process to identify and eliminate from detailed study issues which are not significant or issues that have been analyzed in prior environmental reviews.

BOEM is seeking public input on the EA, including comments on the completeness and adequacy of the environmental analysis. BOEM will consider public comments on the EA in determining whether to issue a Finding of No Significant Impact (FONSI), or conduct additional analysis under the NEPA.

The EA and information on the public information meeting can be found online at http://www.boem.gov/Research-Nomination-Outside-and-to-the-West-of-the-WEADOE/.

COMMENTS: Federal, State, and local government agencies, tribal governments, and other interested parties are requested to submit their written comments on the EA in one of the following ways:

1. Electronically: http://www.regulations.gov. In the entry entitled “Enter Keyword or ID,” enter BOEM-2014-0077, then click “search.” Follow the instructions to submit public comments and view supporting and related materials available for this document.

2. In written form, delivered by hand or by mail, enclosed in an envelope labeled “Approval of the Virginia Offshore Wind Technology Advancement Project on the Atlantic Outer Continental Shelf (OCS) Offshore Virginia” to: Program Manager, Office of Renewable Energy, Bureau of Ocean Energy Management, 381 Elden Street, HM 1328, Herndon, Virginia 20170-4817.

Comments must be received or postmarked no later than January 2, 2015. All written comments received or postmarked during the comment period will be made available to the public.

Authority: This Notice of Availability is published pursuant to 43 CFR 46.305.

Dated: November 24, 2014.
Walter D. Cruickshank,
Acting Director, Bureau of Ocean Energy Management.

[FR Doc. 2014-28164 Filed 12-1-14; 8:45 am]

BILLING CODE 4310-MR-P